DEPARTMENT OF TRANSPORTATION

Federal Highway Administration

Notice of Final Federal Agency Actions on Proposed Transportation Project in State of West Virginia

AGENCY: Federal Highway Administration (FHWA), DOT.

ACTION: Notice of limitation on claims for judicial review.

SUMMARY: The FHWA, on behalf of the West Virginia Department of Highways (WVDOH), is issuing this notice to announce actions taken by WVDOH and other Federal agencies that are final agency actions. This action includes approval of the Finding of No Significant Impact (FONSI) for the construction of the Appalachian Corridor H, Wardensville to Virginia State Line Project.

DATES: By this notice, the FHWA, on behalf of WVDOH, is advising the public of final agency actions subject to 23 U.S.C. 139(l)(1). A claim seeking judicial review of the Federal Agency actions on the listed highway project will be barred unless the claim is filed on or before June 4, 2026. If the Federal law that authorizes judicial review of a claim provides a time period of less than 150 days for filing such claim, then that shorter time period still applies.

ADDRESSES: The FONSI and additional project documents can be viewed and downloaded from the project website at: https://storymaps.arcgis.com/collections/476b7a6eddf240ec9a0f19e59f89e473, by contacting Raymond Scites, P.E., WVDOH Engineering Division, 1900 Kanawha Blvd. E, Building 5—Room 920, Charleston, WV 25305, during normal business hours of 7:30 a.m. to 4 p.m. (Eastern Standard Time), Monday through Friday, except State and Federal holidays, or by contacting Jason Workman, Director of Program Development, Federal Highway Administration, 300 Virginia St E, Ste 7400, Charleston, WV 25301, during normal business hours of 7:30 a.m. to 4 p.m. (Eastern Standard Time), Monday through Friday, except Federal holidays.

FOR FURTHER INFORMATION CONTACT: Raymond Scites, P.E., Director, Engineering Division. West Virginia Division of Highways; Raymond.J.Scites@wv.gov; (304) 558-2885, or, Jason Workman, Director of Program Development, FHWA WV Division, jason.workman@dot.gov; (304) 347-5928.

SUPPLEMENTARY INFORMATION: Notice is hereby given that WVDOH and other Federal agencies have taken final agency actions subject to 23 U.S.C. 139(l)(1) by issuing licenses, permits, or approvals for the proposed improvement highway project. The actions by WVDOH and other Federal agencies on the project, and the laws under which such actions were taken are described in the FONSI approved on November 3, 2025, and in other project records for the listed project. The FONSI and other documents for the listed project are available at the website listed above or by contacting the WVDOH or FHWA using the contact information provided above.

The project subject to this notice is:

Project Location: The Project is the Appalachian Corridor H, Wardensville to Virginia (VA) State Line Project. The Project is a 6.8-mile new location highway project in Hardy County, West Virginia (WV). It begins in the west at the eastern terminus of the existing 4-lane Corridor H highway, along WV State Route (WV) 55/US Route 48 (US 48) at Hardy County Route (CR) 23/12 (Trout Run Cutoff Road) and ends at the WV/VA state line along US 48.

Project Actions: This notice applies to the FONSI and all other Federal agency licenses, permits, or approvals for the listed project as of the issuance date of this notice including but not limited to:

1. General: National Environmental Policy Act (NEPA) [42 U.S.C. 4321 et seq.]; Federal-Aid Highway Act (FAHA) [23 U.S.C. 109 and 23 U.S.C. 128]; 23 CFR part 771.

2. Air: Clean Air Act (CAA) [42 U.S.C. 7401-7671(q)], with the exception of project level conformity determinations [42 U.S.C. 7506].

3. Noise: Noise Control Act of 1972 [42 U.S.C. 4901-4918]; 23 CFR part 772.

4. Land: Section 4(f) of the Department of Transportation Act of 1966 [23 U.S.C. 138 and 49 U.S.C. 303]; 23 CFR part 774; Land and Water Conservation Fund (LWCF) [54 U.S.C. 200302-200310].

5. Wildlife: Endangered Species Act (ESA) [16 U.S.C. 1531-1544 and 1536]; Fish and Wildlife Coordination Act [16 U.S.C. 661-667(d)]; Migratory Bird Treaty Act (MBTA) [16 U.S.C. 703-712].

6. Historic and Cultural Resources: Section 106 of the National Historic Preservation Act of 1966, as amended [54 U.S.C. 306101 et seq.]; Archaeological Resources Protection Act of 1979 (ARPA) [16 U.S.C. 470(aa)-470(II)]; Preservation of Historical and Archaeological Data [54 U.S.C. 312501-312508]; Native American Grave Protection and Repatriation Act (NAGPRA) [25 U.S.C. 3001-3013; 18 U.S.C. 1170].

7. Social and Economic: Civil Rights Act of 1964 [42 U.S.C. 2000(d)-2000(d)(1)]; American Indian Religious Freedom Act [42 U.S.C. 1996]; Farmland Protection Policy Act (FPPA) [7 U.S.C. 4201-4209].

8. Wetlands and Water Resources: Clean Water Act (Section 319, Section 401, Section 404) [33 U.S.C. 1251-1387]; Safe Drinking Water Act (SDWA) [42 U.S.C. 300f-300j—26]; Rivers and Harbors Act of 1899 [33 U.S.C. 401-406]; Wild and Scenic Rivers Act [16 U.S.C. 1271-1287]; Emergency Wetlands Resources Act [16 U.S.C. 3921, 3931]; Wetlands Mitigation, [23 U.S.C. 119(g) and 133(b)(3)]; Flood Disaster Protection Act [42 U.S.C. 4001-4130].

9. Hazardous Materials: Comprehensive Environmental Response, Compensation, and Liability Act (CERCLA) [42 U.S.C. 9601-9675]; Superfund Amendments and Reauthorization Act of 1986 (SARA); Resource Conservation and Recovery Act (RCRA) [42 U.S.C. 6901-6992(k)].

10. Executive Orders: E.O. 11990 Protection of Wetlands; E.O. 11988 Floodplain Management; E.O. 11593 Protection and Enhancement of Cultural Resources; E.O. 13007 Indian Sacred Sites; E.O. 13287 Preserve America; E.O. 13112 Invasive Species.

(Catalog of Federal Domestic Assistance Program Number 20.205, Highway Planning and Construction. The regulations implementing Executive Order 12372 regarding intergovernmental consultation on Federal programs and activities apply to this program.)

(Authority: 23 U.S.C. 139(l)(1))

Jason Workman,
Director, Program Development, WV Division, Federal Highway Administration.

[FR Doc. 2025-24224 Filed 1-2-26; 8:45 am]

BILLING CODE 4910-RY-P